DEPARTMENT OF THE INTERIOR

National Park Service

[NPS-WASO-NAGPRA-NPS0031642; PPWOCRADN0-PCU00RP14.R50000]

Notice of Inventory Completion: Diablo Valley College, Pleasant Hill, CA

AGENCY: National Park Service, Interior.

ACTION: Notice.

SUMMARY: Diablo Valley College, a campus of Contra Costa Community College District, has completed an inventory of human remains and associated funerary objects in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Diablo Valley College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Diablo Valley College at the address in this notice by May 3, 2021.

ADDRESSES: Susan Lamb, President, Diablo Valley College, 321 Golf Club Road, Pleasant Hill, CA 94523, telephone (925) 969-2001, email slamb@dvc.edu.

SUPPLEMENTARY INFORMATION: Notice is hereby given in accordance with the Native American Graves Protection and Repatriation Act (NAGPRA), 25 U.S.C. 3003, of the completion of an inventory of human remains and associated funerary objects under the control of Diablo Valley College, Pleasant Hill, CA. The human remains and associated funerary objects were removed from various locations in Contra Costa County, CA, including Concord, Lafayette, Oakley, Alamo, Danville, and San Ramon.

This notice is published as part of the National Park Service's administrative responsibilities under NAGPRA, 25 U.S.C. 3003(d)(3). The determinations in this notice are the sole responsibility of the institution that has control of the Native American human remains and associated funerary objects. The National Park Service is not responsible for the determinations in this notice.

Consultation

A detailed assessment of the human remains was made by Diablo Valley College professional staff in consultation with representatives of the Scotts Valley Band of Pomo Indians of California and the Confederated Villages of Lisjan, a non-federally recognized Indian group (hereafter referred to as “The Consulted Tribes and Groups”).

The Buena Vista Rancheria of Me-Wuk Indians of California and the Tule River Indian Tribe of the Tule River Reservation were invited to consult but deferred to The Consulted Tribes and Groups. The Big Valley Band of Pomo Indians of the Big Valley Rancheria, California; Bridgeport Indian Colony [previously listed as Bridgeport Paiute Indian Colony of California]; California Valley Miwok Tribe, California; Federated Indians of Graton Rancheria, California; Habematolel Pomo of Upper Lake, California; Hopland Band of Pomo Indians [previously listed as Hopland Band of Pomo Indians of the Hopland Rancheria, California]; Mechoopda Indian Tribe of Chico Rancheria, California; Sherwood Valley Rancheria of Pomo Indians of California; Wilton Rancheria, California; Yocha Dehe Wintun Nation, California [previously listed as Rumsey Indian Rancheria of Wintun Indians of California; and four non-federally recognized Indian groups (Amah Mutsun Tribal Band of Mission San Juan Bautista; Indian Canyon Mutsun Band of Costanoan; Northern Valley Yokuts; and the Muwekma Ohlone Indian Tribe of the SF Bay Area) were invited to consult but did not participate. Hereafter, the non-participating Indian Tribes and groups are referred to as “The Invited Tribes and Groups”.

History and Description of the Remains

At an unknown date, human remains representing, at minimum, two individuals were removed from an unknown site in Contra Costa County. In 1961, the human remains were donated to Diablo Valley College by a person identified only as “Perryman.” The human remains consist of a lower mandible and an upper cap skull. The sex and age of the individuals are unknown. No known individuals were identified. No associated funerary objects are present.

At an unknown date, human remains representing, at minimum, one individual were removed from Knightsen Mound, close to Oakley. In 1964, the human remains were donated to Diablo Valley College by Jerry Wentling. The human remains consist of a skull, mandible, and bone chips. The sex and age of the individual are unknown. No known individual was identified. The three associated funerary objects include one lot of olivella shell beads, one shell bead necklace, and one shell piece.

At an unknown date, human remains representing, at minimum, one individual were removed “approximately 75 yards off the main highway and Stone Valley Road” in Alamo. In 1964, the human remains were donated to Diablo Valley College by Norm LaFleur. The human remains consist of skull fragments. No known individual was identified. No associated funerary objects are present.

In 1956, human remains representing, at minimum, five individuals were removed during an anthropological excavation at Galindo Creek in Concord. In 1964, the human remains were donated to Diablo Valley College by Charles Sapper. The human remains consist of a full skull, skull pieces, a mandible, miscellaneous skull caps glued from four to five skulls, and miscellaneous skeletal materials. The sex and age of the individuals are unknown. No known individuals were identified. No associated funerary objects are present.

In 1965, human remains representing, at minimum, one individual were removed from a site containing graves near Hough Avenue in Lafayette. In 1965, the human remains were donated to Diablo Valley College by Rick Bonnington. The human remains consist of broken skull pieces. The sex and age of the individual are unknown. No known individual was identified. No associated funerary objects are present.

Sometime in the 1960s, human remains representing, at minimum, one individual collected from Cypress Road on Bethel Island, in Oakley. In March 1970, the human remains were donated to Diablo Valley College by Barbara Sanhuhl Fletcher. The human remains consist of a skull. No known individual was identified. The one associated funerary object is a grinding stone.

At an unknown date or dates, human remains representing, at minimum, four individuals were removed from unknown sites in Alamo, Danville, and San Ramon. During 1972 and 1973, the human remains were donated to Diablo Valley College by Rick Hicks. The human remains consist of two skulls in pieces; a mandible; fragile bones; vertebrae; foot bones; and the skull and skeleton belonging to an infant of indeterminate sex (the sex and age of the other three individuals are unknown). No known individuals were identified. No associated funerary objects are present.

During 1973 and 1974, human remains representing, at minimum, one individual were removed from the “La Serena archaeological excavation site” in Alamo. In August of 1977, the human remains were donated to Diablo Valley College by S. Herrmann. The human remains consist of a skull and mandible, and human vertebrae. The sex and age of the individual are unknown. No known individual was identified. No associated funerary objects are present.

Based on collection research, archeological evidence, geographic location, ethnographic information, and oral history evidence, the sites from which the human remains and associated funerary objects listed in this notice were removed are located within the territory traditionally occupied by the Scotts Valley Band of Pomo Indians of California and the Confederated Villages of Lisjan, a non-federally recognized Indian group.

Determinations Made by Diablo Valley College

Officials of Diablo Valley College have determined that:

• Pursuant to 25 U.S.C. 3001(9), the human remains described in this notice represent the physical remains of 16 individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Scotts Valley Band of Pomo Indians of California.

Additional Requestors and Disposition

Lineal descendants or representatives of any Indian Tribe or Native Hawaiian organization not identified in this notice that wish to request transfer of control of these human remains and associated funerary objects should submit a written request with information in support of the request to Susan Lamb, President, Diablo Valley College, 321 Golf Club Road, Pleasant Hill, CA 94523, telephone (925) 969-2001, email slamb@dvc.edu, by May 3, 2021. After that date, if no additional requestors have come forward, transfer of control of the human remains and associated funerary objects to the Scotts Valley Band of Pomo Indians of California and, if joined to a request from the Scotts Valley Band of Pomo Indians of California, the Confederated Villages of Lisjan, may proceed.

Diablo Valley College is responsible for notifying The Consulted Tribes and Groups and The Invited Tribes and Groups that this notice has been published.

Dated: March 16, 2021.
Melanie O'Brien,
Manager, National NAGPRA Program.

[FR Doc. 2021-06656 Filed 3-31-21; 8:45 am]

BILLING CODE 4312-52-P